DEPARTMENT OF LABOR

Employment and Training Administration

[TA-W-42,190]

Pechiney Rolled Products, Ravenswood, West Virginia; Notice of Termination of Investigation

Pursuant to section 221 of the Trade Act of 1974, an investigation was initiated on September 30, 2002 in response to a worker petition which was filed on September 30, 2002 on behalf of workers at Pechiney Rolled Products, Ravenswood, West Virginia.

At the request of the petitioner, the petition has been withdrawn. Consequently, further investigation in this case would serve no purpose, and the investigation has been terminated.

Signed in Washington, DC, this 23rd day of January, 2003.
Linda G. Poole,
Certifying Officer, Division of Trade Adjustment Assistance.

[FR Doc. 03-2846 Filed 2-5-03; 8:45 am]

BILLING CODE 4510-30-P